FEDERAL COMMUNICATIONS COMMISSION

[FCC 05-39]

Federal-State Conference on Accounting Issues

AGENCY: Federal Communications Commission.

ACTION: Notice.

SUMMARY: This document extends the Federal-State Joint Conference On Accounting Issues (Joint Conference) until March 1, 2007. This extension provides the Joint Conference with the time needed to consider and make recommendations on additional accounting and reporting issues.

FOR FURTHER INFORMATION CONTACT: Thaddeus Machcinski, Pricing Policy Division, Wireline Competition Bureau at (202) 418-0808.

SUPPLEMENTARY INFORMATION: This is a summary of the Commission's order released February 16, 2005. This order extends the Joint Conference until March 1, 2007. The Joint Conference was convened in September of 2002 with the task of reexamining the Commission's accounting and reporting requirements. In the order convening the Joint Conference, the Commission also stated that it would revisit the need for the Joint Conference in two years.

The Commission believes that continued dialogue between the Commission and the states on accounting matters will be useful. Accordingly, the Commission has extended the Joint Conference until March 7, 2007.

Federal Communications Commission.
Marlene H. Dortch,
Secretary.

[FR Doc. 05-5610 Filed 3-21-05; 8:45 am]

BILLING CODE 6712-01-P